DEPARTMENT OF THE INTERIOR

Fish and Wildlife Service

[FWS-R2-ES-2009-N0091; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before June 15, 2009.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave., SW., Room 6034, Albuquerque, NM. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-212451

Applicant: Peter Ortiz, Houston, Texas.

Applicant requests a new permit for research and recovery purposes to conduct presence/absence surveys for the following species: Houston toad (Bufo hustonensis), Monito gecko (Sphaerodactylus micropithecus), green sea turtle (Chelonia mydas), hawksbill sea turtle (Eretmochelys imbricate), leatherback sea turtle (Dermochelys coriacea), Puerto Rican boa (Epicrates inornatus), Virgin Island tree boa (Epicrates monensis granti), black-capped vireo (Vireo atricapillus), golden-cheeked warbler (Dendroica chrysoparia), brown pelican (Pelecanus occidentalis), interior least tern (Sterna antillarum), Roseate tern (sterna dougalii dougalii), whooping crane (Grus Americana), Mississippi sandhill crane (Grus canadensis pulla), red-cockaded woodpecker (Picoides borealis), Puerto Rican sharp-shinned hawk (Accipiter striatus venator), Puerto Rican plain pigeon (Columbia inornata wetmorei), Puerto Rican nightjar (Caprimulgus noctitherus), yellow-shouldered blackbird (Agelaius xanthomus xanthomus), Attwater's greater prairie-chicken (Tympanuchus cupido attwateri), California condor (Gymnogyps californiananus), masked bobwhite (Colinus virgianus ridgwayi), northern aplomado falcon (Falco femoralis septentrionalis), southwestern willow flycatcher (Empidonax traillii extimus), Yuma clapper rail (Rallus longirostris yumanensis), Cape Sable seaside sparrow (Ammodramus maritimus mirabilis), Everglade snail kite (Ammodramus svannarum floridanus), and wood stork (Mycteria Americana) throughout the entire range of these species within the jurisdiction of the U.S. Fish and Wildlife Service, specifically the Southwest and Southeast Regions.

Permit TE-212896

Applicant: University of Florida, Gainesville, Florida.

Applicant requests a new permit for research and recovery purposes to conduct presence/absence surveys for humpback chub (Gila cypha) within Arizona.

Permit TE-213424

Applicant: Jonah Evans, Boerne, Texas.

Applicant requests a new permit for research and recovery purposes to conduct presence/absence surveys of black-capped vireo (Vireo atricapillus) and golden-cheeked warbler (Dendroica chrysoparia) within Texas.

Permit TE-006655

Applicant: Logan Simpson Design, Tempe, Arizona.

Applicant requests an amendment to a current permit for research and recovery purposes to conduct presence/absence surveys of southwestern willow flycatcher (Empidonax traillii extimus) within Utah.

Permit TE-144755

Applicant: Reagan Smith Energy Solutions, Oklahoma City, Oklahoma.

Applicant requests an amendment to a current permit for research and recovery purposes to conduct presence/absence surveys of red-cockaded woodpeckers (Picoides borealis) within Arkansas, Texas, Louisiana, Alabama, Mississippi, Kentucky, Florida, South Carolina, Georgia, Oklahoma, Virginia, North Carolina, and Tennessee.

Authority: 16 U.S.C. 1531 et seq.

Dated: May 6, 2009.
Thomas L. Bauer,
Acting Regional Director, Southwest Region, Fish and Wildlife Service.

[FR Doc. E9-11372 Filed 5-14-09; 8:45 am]

BILLING CODE 4310-55-P